DEPARTMENT OF TRANSPORTATION

Federal Railroad Administration

[Docket Number FRA-2001-10237]

Petition for Waiver of Compliance

In accordance with Part 211 of Title 49 of the Code of Federal Regulations (CFR), this document provides the public notice that by a document dated February 1, 2012, the Port of Los Angeles, with the cooperation and input of Pacific Harbor Line (PHL), has petitioned the Federal Railroad Administration (FRA) for an extension of its waivers of compliance from certain provisions of the Federal railroad safety regulations contained at 49 CFR part 217, Railroad Operating Rules; part 220, Railroad Communications; part 221, Rear End Marking Device—Passenger, Commuter and Freight Trains; part 223, Safety Glazing Standards—Locomotives, Passenger Cars and Cabooses; part 225, Railroad Accidents/Incidents: Reports Classification, and Investigations; part 228, Hours of Service of Railroad Employees; Recordkeeping and Reporting; Sleeping Quarters; part 228, Subpart A—General, and Subpart B—Records and Reporting; part 229, Railroad Locomotive Safety Standards; part 231, Railroad Safety Appliance Standards; part 238, Passenger Equipment Safety Standards; and part 239, Passenger Train Emergency Preparedness. FRA assigned the petition Docket Number FRA-2001-10237.

The Port of Los Angeles explained that their request is consistent with the waiver process for shared use. See Statement of Agency Policy Concerning Jurisdiction Over the Safety of Railroad Passenger Operations and Waivers Related to Shared Use of the Tracks of the General Railroad System by Light Rail and Conventional Equipment, 65 FR 42529 (July 10, 2000); see also Joint Statement of Agency Policy Concerning Shared Use of the Tracks of the General Railroad System by Conventional Railroads and Light Rail Transit Systems, 65 FR 42626 (July 10, 2000). The Port of Los Angeles received its initial waiver and permission from FRA on May 8, 2002. The Port of Los Angeles was granted a 5-year extension of the terms and conditions of the original waiver on April 24, 2007.

The Port of Los Angeles stated in its most recent petition that it desires to continue the operation of the Red Car Line under the same rules, procedures, and directives as originally prescribed and granted by FRA. The Port of Los Angeles operates the “Waterfront Red Car Line” over 1.5 miles of PHL track, located in the Port of Los Angeles. Freight and vintage trolley operations are temporally separated on this portion of track. PHL no longer services Westway Terminal's tank farm on this portion of track.

A copy of the petition, as well as any written communications concerning the petition, is available for review online at www.regulations.gov and in person at the U.S. Department of Transportation's (DOT) Docket Operations Facility, 1200 New Jersey Avenue SE., W12-140, Washington, DC 20590. The Docket Operations Facility is open from 9 a.m. to 5 p.m., Monday through Friday, except Federal holidays.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number and may be submitted by any of the following methods:

• Web site: http://www.regulations.gov. Follow the online instructions for submitting comments.

• Fax: 202-493-2251.

• Mail: Docket Operations Facility, U.S. Department of Transportation, 1200 New Jersey Avenue SE., W12-140, Washington, DC 20590.

• Hand Delivery: 1200 New Jersey Avenue SE., Room W12-140, Washington, DC 20590, between 9 a.m. and 5 p.m., Monday through Friday, except Federal holidays.

Communications received by April 9, 2012 will be considered by FRA before final action is taken. Comments received after that date will be considered as far as practicable.

Anyone is able to search the electronic form of any written communications and comments received into any of our dockets by the name of the individual submitting the comment (or signing the comment, if submitted on behalf of an association, business, labor union, etc.). You may review DOT's complete Privacy Act Statement in the Federal Register published on April 11, 2000 (Volume 65, Number 70; Pages 19477-78), or online at http://www.dot.gov/privacy.html.

Issued in Washington, DC, on February 16, 2012.
Ron Hynes,
Acting Deputy Associate Administrator for Regulatory and Legislative Operations.

[FR Doc. 2012-4159 Filed 2-22-12; 8:45 am]

BILLING CODE 4910-06-P